DEPARTMENT OF THE INTERIOR

Bureau of Land Management

[UT-912-00-0777-XQ]

Notice of Meeting; Utah Resource Advisory Council

AGENCY: Bureau of Land Management.

ACTION: Notice of Meeting of the Utah Advisory Council.

SUMMARY: The Bureau of Land Management's Utah Statewide Resource Advisory Council meeting will be held on January 20-21, 2000, in Provo, Utah.

The purpose of this meeting is to provide the Council with an overview of Utah's recreation management program as well as developing guidelines for recreation management.

The meeting will be held at the Hampton Inn, (Sundance Room), 1511 South 40 East, Provo, Utah. It is scheduled to begin at 9 a.m. on January 20 and conclude at noon on January 21. A public comment period, where members of the public may address the Council, is scheduled from 12:30-1:00 p.m. on January 20. All meetings of the BLM's Resource Advisory Council are open to the public.

FOR FURTHER INFORMATION CONTACT: Sherry Foot, Special Programs Coordinator, Utah State Office, Bureau of Land Management, 324 South State Street, Salt Lake City, 84111; phone (801) 539-4195.

Dated: January 10, 2000.
Sally Wisely,
Utah BLM State Director.

[FR Doc. 00-1291 Filed 1-19-00; 8:45 am]

BILLING CODE 4310-DQ-M